SELECTIVE SERVICE SYSTEM

Privacy Act; System of Records: Amendments

AGENCY: Selective Service System.

ACTION: Notice of Amendment to Systems of Records.

SUMMARY: Selective Service System has amended an existing system of records subject to the Privacy Act of 1974. This action is necessary to meet the requirements of the Privacy Act to publish in the Federal Register notice of the existence and character of system of records maintained by the agency.

DATES: The changes became effective in 2012. The system has been operational for five years.

FOR FURTHER INFORMATION CONTACT: Chief Information Officer, Office of Information Technology, Operations Directorate, Selective Service System, 1515 Wilson Boulevard, Arlington, Virginia 22209-2425.

SUPPLEMENTARY INFORMATION: This notice serves to update, amend, and consolidate the Systems of Records Notice for SSS-2 General Files Registrant Processing; SSS-3 Reconciliation Service Records; SSS-4 Registrant Information Bank Records; SSS-7 Suspected Violator Inventory System; and SSS-9 Registrant Reservation Records published in the Federal Register September 20, 2011, Vol. 76, No 182.

AUTHORITY:

5 U.S.C. 552a.

SYSTEM NAME:

Registration, Compliance and Verification (RCV) System

SECURITY CLASSIFICATION:

None.

SYSTEM LOCATION:

Data Management Center, Operations Directorate, Great Lakes, Illinois 60088.

CATEGORIES OF INDIVIDUALS COVERED BY THE SYSTEM:

Registrants of the Selective Service System after 1979 (men born after December 31, 1959). Young men register upon reaching their 18th birthday. By current law, women are not required to register.

a. Registration Form.

b. Computer database, computer tape and microfilm copies containing information provided by the registrant on Registration Form.

AUTHORITY FOR MAINTENANCE OF THE SYSTEM:

Chapter 49, Military Selective Service Act (50 U.S.C. 3801 et seq.)

ROUTINE USES OF RECORDS MAINTAINED IN THE SYSTEM, INCLUDING CATEGORIES OF USERS AND THE PURPOSES OF SUCH USES:

The Military Selective Service Act, Selective Service regulations, and the President's Proclamation on Registration requires those registering with Selective Service to provide their full name, date of birth, address, sex, Social Security Account Number, if they have one, and their signature. The principal purpose of the requested information is to establish or verify a person's registration with the Selective Service System. Registration information may be shared with the following government agencies for the purposes stated:

Department of Justice—For review and processing of suspected violations of the Military Selective Service Act (MSSA), for perjury, and for defense of a civil action arising from administrative processing under such Act.

Department of State and U.S. Citizenship and Immigration Services—For collection and evaluation of data to determine a person's eligibility for United States citizenship.

Department of Defense and U.S. Coast Guard—To exchange data concerning registration, classification, induction, and examination of registrants and for identification of prospects for recruiting.

Department of Labor—To assist veterans in need of data concerning reemployment rights, and for determination of eligibility for benefits under the Workforce Investment Act.

Department of Education—To determine eligibility for student financial assistance.

U.S. Census Bureau—For the purposes of planning or carrying out a census or survey or related activity pursuant to the provisions of Title 13.

Office of Personnel Management and U.S. Postal Service—To determine eligibility for employment.

Department of Health and Human Services—To determine a person's proper Social Security Account Number and for locating parents pursuant to the Child Support Enforcement Act.

State and Local Governments—To provide data that may constitute evidence and facilitate the enforcement of state and local law.

Alternative Service Employers—During conscription, to exchange information with employers regarding a registrant who is a conscientious objector for the purpose of placement and supervision of performance of alternative service in lieu of induction into the military service.

General Public—Registrant's name, Selective Service Registration Number, Date of Birth and Classification, (Military Selective Service Act, 50 U.S.C. 3806(h)).

POLICIES AND PRACTICES FOR STORING, RETRIEVING, ACCESSING RETAINING, AND DISPOSING OF RECORDS IN THE SYSTEM:

STORAGE:

Records are maintained on microfilm and in the computer system. Microfilm records are indexed by Document Locator Number, and the computer system lists these numbers for document retrieval from the microfilm records.

RETRIEVABILITY:

The system is indexed by Selective Service Number, but records can be located by searching for specific data.

SAFEGUARDS:

Measures that have been taken to prevent unauthorized disclosures of records are:

a. Records are maintained by authorized personnel only, who have been trained in the rules and regulations concerning disclosures of information; offices are locked when authorized personnel are not on duty, and are protected by an electronic security access system at all times.

b. Periodic security checks and other emergency planning.

c. Microfilm records transferred to a Federal Records Center for storage are boxed and taped; records in transit for temporary custody of another office are sealed.

d. Selective Service System employees access the application via customized user interface—access is controlled by user id and password credentials.

e. Records eligible for destruction are destroyed by maceration, shredding, burning or purging from the RCV database.

RETENTION AND DISPOSAL:

Individual Processing Records:

1. Registration Form—Destroyed by maceration when its information has been transferred onto microfilm, added to the computer system, and an image has been transferred to the National Archives. Original microfilm is stored at a Federal Records Center. A microfilm non-record copy is retained at the Data Management Center, in locked steel cabinets. The copies are retained until no longer needed for reference purposes. Also, registration files are stored on hard drives/network storage.

2. The record copy of microfilm and computer database will be retained until the registrant reaches 85 years of age.

SYSTEM MANAGER(S) AND ADDRESS:

Chief Information Officer, Office of Information Technology, Operations Directorate, Selective Service System, 1515 Wilson Boulevard, Arlington, VA 22209-2425.

RECORD ACCESS PROCEDURES:

The agency office address to which inquiries should be addressed and the location at which an individual may present a request as to whether the RCV System (after 1979) contains records pertaining to himself is: Chief Information Officer, Selective Service System, 1515 Wilson Boulevard, Arlington, VA 22209-2425.

It is necessary to furnish the following information in order to identify the individual whose records are requested:

a. Full name of the individual.

b. Selective Service Number or Social Security Account Number, date of birth and address at the time of registration if Selective Service Number is not known.

c. Mailing address to which the reply should be mailed.

CONTESTING RECORD PROCEDURES:

See Record Access Procedures, above.

RECORD SOURCE CATEGORIES:

Information contained in the Registrant Registration Records System is obtained from the individual.

SYSTEMS EXEMPTED FOR CERTAIN PROVISIONS OF THE ACT:

None.

Dated: June 22, 2017.
Donald M. Benton,
Director.

[FR Doc. 2017-13771 Filed 6-29-17; 8:45 am]

BILLING CODE 8015-01-P